DEPARTMENT OF COMMERCE

Economic Development Administration

Proposed Information Collection; Comment Request; Application for Investment Assistance

AGENCY: Economic Development Administration, Department of Commerce.

ACTION: Notice.

SUMMARY: The Economic Development Administration (EDA or the Agency), Department of Commerce, as part of its continuing effort to reduce paperwork and respondent burden, invites the general public and other Federal agencies to comment on a proposed extension of an information collection request approved through September 30, 2018, as required by the Paperwork Reduction Act of 1995 (PRA).

DATES: Written comments must be submitted on or before July 3, 2018.

ADDRESSES: Direct all written comments to Jennifer Jessup, Departmental Paperwork Clearance Officer, Department of Commerce, Room 6616, 14th and Constitution Avenue NW, Washington, DC 20230 (or via email at PRAcomments@doc.gov).

FOR FURTHER INFORMATION CONTACT: Requests for additional information or copies of the information collection instrument and instructions should be directed to Ryan Smith, Program Analyst, Performance and National Programs Division, Room 71030, Economic Development Administration, 14th and Constitution Avenue NW, Washington, DC 20230, (or via email at rsmith2@eda.gov).

SUPPLEMENTARY INFORMATION:

I. Abstract

The mission of EDA is to lead the federal economic development agenda by promoting innovation and competitiveness, preparing American regions for growth and success in the worldwide economy. EDA accomplishes this mission by helping states, regions, and communities through capacity building, planning, infrastructure, research grants, and strategic initiatives. Further information on EDA's program and grant opportunities can be found at www.eda.gov.

In order for EDA to evaluate whether proposed projects satisfy eligibility and programmatic requirements contained in EDA's authorizing legislation, the Public Works and Economic Development Act of 1965, as amended (42 U.S.C. 3121 et seq.) (PWEDA), EDA's accompanying regulations codified in 13 CFR Chapter III, and the applicable Notice of Funding Opportunity (NOFO), EDA must collect specific data from its grant applicants. The purpose of this notice is to seek comments from the public and other Federal agencies on a request for an extension of EDA's currently approved suite of ED-900 application forms which are scheduled to expire on September 30, 2018.

II. Method of Collection

EDA collects application information through a series of ED-900 forms:

• ED-900—General Application for EDA Programs;

• ED-900A—Additional EDA Assurances for Construction or Non-Construction Investments;

• ED-900C—EDA Application Supplement for Construction Programs;

• ED-900D—Requirements for Design and Engineering Assistance;

• ED-900E—Calculation of Estimated Relocation and Land Acquisition Expenses;

• ED-900F—Supplement for Revolving Loan Fund Applications;

• ED-900P—Proposal for EDA Assistance].

The forms are electronically submitted through Grants.gov, or via paper submission to the appropriate EDA office, in response to a NOFO. Applicants are required to submit the applicable ED-900 form(s) to the EDA Regional Office for review and evaluation.

As a part of this renewal process, EDA plans to make minor clarifying edits to the following ED-900 forms: ED-900, ED-900B, and ED-900C. None of these minor edits are expected to impact the time burden on the respondent nor do the modifications change the type or amount of information collected.

Detailed Information About Proposed Changes
Form | Section | Proposed changes
All | Where applicable | Replace all occurrences of “FFO” or “Federal Funding Opportunity” with “NOFO” or “Notice of Funding Opportunity” as appropriate, per Department of Commerce grants policy.
ED-900—General Application for EDA Programs | A. Applicant Information | None.
ED-900 | B. Project Information | (1) To increase clarity, revise Question B.1. to read: “Provide a geographical definition of the region to be served by the investment (project), including the specific geographic location of the project within the region.”
|  | (2) To increase clarity, revise Question B.2. to read: “Describe and outline the scope of work for the proposed EDA investment, including a list of tasks to be undertaken.”
|  | (3) For consistency, add “N/A—Not Applicable” to the available options under “No” within Question B.3.
|  | (4) To increase clarity, revise Question B.3.b. to read: “Describe the economic conditions of your region. Define the economic development need to be addressed by the proposed EDA investment and explain how the proposed investment will address that need.”
ED-900 | C. Regional Eligibility | (1) Reverse the order of C.2. and C.3. so that the basis of eligibility is asked about prior to the source of data.
|  | (2) Question C.3. (as renumbered): Add a new box C.3.b. and renumber the rest accordingly. The new box reads: “C.3.b. The most recent Bureau of Labor Statistics Data.” This change will reflect the hierarchy of sources set out in 13 C.F.R. 301.3(a)(4).
ED-900 | E. Administrative Requirements | Provide clarification in Question E.1.b. by adding “as listed in question B.9.” in parenthesis after “other parties” and add “under 13 C.F.R. § 302.20” after “civil rights requirements”.
ED-900 | Instructions | (1) To avoid duplication, revise the instructions for B.2. to delete “, and key milestones and an associated schedule for when the project could start, when key milestones could be achieved, and when the project is anticipated to be completed”. Milestones and schedule should not be included for this question. They should be included in the response to B.7. (2) To provide additional clarity on what EDA may require, revise the instructions for D.2. to include a third sentence: “Alternatively, applicants must provide supplemental documentation such as: a certificate of indirect costs and acknowledgment letter from the cognizant agency, a cost allocation plan, an indirect cost rate proposal and/or other acceptable documents under Uniform Administrative Requirements, Cost Principles, and Audit Requirements for Federal Awards (Uniform Guidance) as set forth in 2 C.F.R. part 200 or relevant procurement regulations.”
ED-900B—Beneficiary Information Form | D. Assurances by Beneficiary that is an “Other Party” | To increase clarity, revise the first sentence of the third paragraph to read: “By submitting these assurances, the Other Party certifies that it will comply with the following requirements:”
ED-900C—EDA Application Supplement for Construction Programs | D. Title Requirements | To provide additional clarity on what EDA may require, revise Question D.2. to read: “EDA regulations normally require recipients to provide a security interest and/or covenant of use in the real property or significant items of tangible personal property acquired or improved with EDA investment assistance (see 13 C.F.R. §§ 314.8 & 314.9). Will you be able to provide the required security interest?”
|  | Additionally, after the “No” box in D.2.: revise the parenthetical to say “(explain how you will satisfy the requirements of 13 C.F.R. §§ 314.8 & 314.9).”
ED-900C | E. Sale or Lease | To increase clarity, revise Question E.3. to read: “Is the purpose of the project to construct facilities to serve a privately owned industrial or commercial party or other privately owned sites for sale or lease?”
|  | Also in Question E.3. and to provide additional clarity on what EDA may require, revise the second sentence after the No/Yes checkboxes to read: “Note that EDA may require that the private owner agree to certain restrictions on the use of the property and may require that those restrictions survive any sale or transfer of the property.”
|  | Finally, in Question E.3. and to provide additional clarity on what EDA may require, revise the third sentence after the No/Yes checkboxes to read: “In addition, EDA may require evidence that the private party has title to the park or site and may require the private party to provide other assurance that EDA determines are necessary to ensure that the property is used in a manner consistent with the project purpose.”

III. Data

OMB Control Number: 0610-0094.

Form Number(s): ED-900, ED-900A, ED-900B, ED-900C, ED-900D, ED-900E, ED-900F, ED-900P.

Type of Review: Regular submission; revision of a currently approved collection.

Affected Public: Not-for-profit institutions; Federal government; State, local, or Tribal government; Business or other for-profit organizations.

Estimated Number of Respondents: 1672.

Estimated Time per Response: 13 hours, 28 minutes.

Estimated Total Annual Burden Hours: 22,512.

Application type | Estimated number of responses | Average time estimate | Total hours
Proposal Submission for Non-Construction Applicants | 448 | 4.8 | 2140.4
Proposal Submission for Construction Applicants | 263 | 4.2 | 1109.0
Full Application Submission for Construction Applicants | 99 | 43.0 | 4246.6
Full Application Submission All Other EDA Programs | 737 | 17.1 | 12579.2
Full Application Submission for Non-Profit Applicants | 125 | 19.5 | 2436.9
Total | 1672 |  | 22,512

Estimated Total Annual Cost to Public: $0.

IV. Request for Comments

Pursuant to section 3506(c)(2)(A) of the PRA (44 U.S.C. 3501 et seq.), comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and may be included in the request for Office of Management and Budget approval of this information collection; they also will become a matter of public record.

Sheleen Dumas,
Departmental Lead PRA Officer, Office of the Chief Information Officer.

[FR Doc. 2018-09538 Filed 5-3-18; 8:45 am]

BILLING CODE 3510-34-P